DEPARTMENT OF JUSTICE

[OMB Number 1121-NEW]

Agency Information Collection Activities; Proposed Collection Comments Requested; New collection: Arrest-Related Deaths Program

AGENCY: Bureau of Justice Statistics, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until October 3, 2016.

FOR FURTHER INFORMATION CONTACT: If you have additional comments especially on the estimated public burden or associated response time, suggestions, or need a copy of the proposed information collection instrument with instructions or additional information, please contact Michael Planty, Deputy Director, Bureau of Justice Statistics, 810 Seventh Street NW., Washington, DC 20531 (email: Michael.Planty@usdoj.gov; telephone: 202-514-9746).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

— Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: New collection.

(2) The Title of the Form/Collection: Arrest-Related Deaths Program

(3) The agency form number, if any, and the applicable component of the Department sponsoring the collection:

This collection includes the following forms:

• Form CJ-11: Arrest-Related Deaths Quarterly Summary. This form is distributed to all law enforcement agencies (LEAs). This summary form requests that LEA respondents confirm deaths identified through open-source review, correct decedent name and date of death as appropriate, and identify any other arrest-related deaths that were not found through open-source review. It requests any LEAs without any deaths to provide an affirmative zero.

• Form CJ-11A: Arrest-Related Death Incident Report. This form is distributed to all LEAs with an arrest-related death. This incident report form requests that LEA respondents provide characteristics of the decedent and the circumstances surrounding the death.

• Form CJ-12: Arrest-Related Deaths Quarterly Summary. This form is distributed to all medical examiner's or coroner's (ME/C) offices with jurisdiction concurrent with that of the LEAs with a potential arrest-related death. This summary form requests that ME/C respondents confirm deaths identified, correct decedent name and date of death as appropriate, and identify any other arrest-related deaths.

• Form CJ-12A: Arrest-Related Death Incident Report. This form is distributed to all ME/Cs with an arrest-related death. This incident report form requests that ME/C respondents provide characteristics of the decedent and the cause and manner of death.

The applicable component within the Department of Justice is the Bureau of Justice Statistics, in the Office of Justice Programs.

(4) Affected public who will be asked or required to respond, as well as a brief abstract: The affected public that will be asked to respond on an annual basis include 19,450 state and local law enforcement agencies (LEAs) and approximately 685 medical examiner's or coroner's (ME/C) offices.

Abstract: The Arrest-Related Deaths (ARD) program was implemented from 2003 as part of BJS's Deaths in Custody Reporting Program (DCRP). The DCRP was developed in response to the Death in Custody Reporting Act of 2000 (P.L. 106-247), which required state and local prisons, jails, and law enforcement agencies (LEAs) to report information about in-custody deaths and deaths occurring in the process of arrest to the Department of Justice. DICRA of 2000 expired in 2006 and was reauthorized as DICRA of 2013 (P.L. 113-242) in December 2014. The DCRP also includes collections that measure deaths occurring in jails and state prisons that are conducted through another data collection.

The BJS designed the ARD program to be a census of all deaths that occur during the process of arrest or during an attempt to obtain custody by a state or local LEA in the United States. BJS defined the manner of arrest-related death to include law enforcement homicides, other homicides, accidents, suicides, or deaths due to natural causes. Law enforcement homicides included all deaths attributed to weapons or restraint tactics used by state or local law enforcement officers, including deaths due to officer-involved shootings; complications related to the use of conducted energy devices, such as Tasers and stun guns; accidents caused by the use of spike strips or other tire deflation devices; injuries due to the use of impact devices, such as batons and soft projectiles; complications due to the use of chemical agents such as pepper spray and tear gas; and other injuries or complications related to the use of restraint tactics.

The ARD program was the only national data collection that attempted to enumerate all arrest-related deaths in the United States, including accidental and natural deaths that occurred during the process of arrest in addition to law enforcement homicides. Because of concerns about variations in data collection methodology and coverage, BJS recently conducted an assessment of its ARD program. Because accurate and comprehensive accounting of deaths that occur during the process of arrest is critical for LEAs to demonstrate responsiveness to the citizens and communities they serve, transparency related to law enforcement tactics and approaches, and accountability for the actions of officers, BJS developed and tested new methodologies for collecting data on the arrest-related deaths.

The redesigned methodology includes a standardized mixed method, hybrid approach relying on open sources to identify eligible cases, followed by data requests from law enforcement and medical examiner/coroner offices for incident-specific information about the decedent and circumstances surrounding the event.

To identify respondents for the agency survey, open sources are reviewed and a list of potential arrest-related deaths are compiled. This list is checked for duplication to develop a list of unique cases. Then LEAs and ME/Cs with jurisdiction in these cases are contacted to (1) confirm, where indicated, whether the incident meets the definition of an arrest-related death and other inclusionary criteria; (2) identify any additional arrest-related deaths that BJS did not identify during its open-source review; and (3) collect additional information about the decedent and the circumstances surrounding the incident for all identified arrest-related deaths. Specifically the following items are collected:

For LEAs

(a) Identifying information, LEA involved, state, decedent name, date/time of death.

(b) Location of incident.

(c) Decedent demographics.

(d) Precipitating events, reason for initial contact, did decedent commit or allegedly commit any crimes.

(e) Decedent behavior during the incident, barricade, threaten, assault, escape; exhibit mental health problems or appear to be intoxicated; possess or appear to possess a weapon; use a weapon to threaten or assault; attempt to injure officers or others.

(f) Law enforcement actions during the incident, engage in pursuit or restraint tactics; use of force; if firearm discharged, how many shots fired; number of officers and LEAs that responded top incident.

(g) Manner of death.

For ME/Cs

(a) Identifying information, LEA involved, state, decedent name, date/time of death.

(b) Location of incident.

(c) Decedent demographics.

(d) Whether autopsy was performed.

(e) Manner of death

(f) Cause of death.

(g) If died from injuries, how were those injuries sustained.

(h) If weapon caused death, what type of weapon.

(5) An estimate of the total number of respondents and the amount of time estimated for an average respondent to respond: The current LEAs roster includes approximately 19,450 state and local agencies. For the 2016 collection, agencies will be asked to report one time to capture the full year. It is expected that 18,384 will report zero incidents with an estimated burden of 15 minutes. The remaining estimated 1,066 agencies will report an average of 1.79 incidents with an estimated burden of 68 minutes. A total LEAs burden of 5,801 hours associated with 2016. For ME/Cs, and estimated 685 offices will be asked to submit an average 2.79 incident forms incident form with an estimated burden 49 minutes. A total ME/C burden of 1,048 hours associated with 2016.

(6) For the 2017 collection, LEAs will be asked to report quarterly. It is expected that 19,106 will report zero incidents with an estimated total burden of 60 minutes for 2017. Approximately 1,066 agencies will report an average of 1.79 incidents with an estimated burden of 142 minutes. The burden is higher in 2017 due to quarterly reporting. A total LEAs burden of 20,440 hours associated with 2017. For ME/Cs, and estimated 685 offices will be asked to submit an average 2.79 incident forms incident form with an estimated burden 49 minutes. A total ME/C burden of 1,897 hours associated with 2017.

(7) An estimate of the total public burden (in hours) associated with the collection: The total respondent burden for reference years is 29,186.

If additional information is required contact: Jerri Murray, Department Clearance Officer, United States Department of Justice, Justice Management Division, Policy and Planning Staff, Two Constitution Square, 145 N Street NE., 3E.405B, Washington, DC 20530.

Dated: August 1, 2016.
Jerri Murray,
Department Clearance Officer for PRA, U.S. Department of Justice.

[FR Doc. 2016-18484 Filed 8-3-16; 8:45 am]

BILLING CODE 4410-18-P